DEPARTMENT OF LABOR

Employment and Training Administration

[NAFTA-05745]

Gold Toe Brands, Inc., Great American Knitting Mills, Bally, PA; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on January 18, 2002, in response to a petition filed by a company official on behalf of workers at Gold Toe Brands, Inc., Great American Knitting Mills, Inc., Bally, Pennsylvania.

The petitioner has requested that the petition be withdrawn. Consequently, further investigation in this case would serve no purpose, and the investigation has been terminated.

Signed at Washington, DC, this 20th day of February, 2002.
Linda G. Poole,
Certifying Officer, Division of Trade Adjustment Assistance.

[FR Doc. 02-4733 Filed 2-27-02; 8:45 am]

BILLING CODE 4510-30-M